DEPARTMENT OF THE INTERIOR

National Park Service

[N6610; NPS-WASO-NAGPRA-NPS0041341; PPWOCRADN0-PCU00RP14.R50000]

Notice of Intended Repatriation: Yale Peabody Museum, Yale University, New Haven, CT

AGENCY: National Park Service, Interior.

ACTION: Notice.

SUMMARY: In accordance with the Native American Graves Protection and Repatriation Act (NAGPRA), the Yale Peabody Museum, Yale University, intends to repatriate certain cultural items that meet the definition of unassociated funerary objects and that have a cultural affiliation with the Indian Tribes in this notice.

DATES: Repatriation of the cultural items in this notice may occur on or after January 15, 2026.

ADDRESSES: Send additional, written requests for repatriation of the cultural items in this notice to Professor Erika Edwards, Interim Director, Yale Peabody Museum, P.O. Box 208118, New Haven, CT 06520-8118, email erika.edwards@yale.edu.

SUPPLEMENTARY INFORMATION: This notice is published as part of the National Park Service's administrative responsibilities under NAGPRA. The determinations in this notice are the sole responsibility of the Yale Peabody Museum, and additional information on the determinations in this notice, including the results of consultation, can be found in the summary or related records. The National Park Service is not responsible for the determinations in this notice.

Abstract of Information Available

A total of 14 cultural items have been requested for repatriation. The two unassociated funerary objects are one lot of modified stone, and one lot of unmodified stone removed from the Riverside area in Gill, including Fort Hill, in Franklin County, Massachusetts by Edward H. Rogers likely between 1915 and 1920. Rogers donated the items to the Yale Peabody Museum in 1960.

The one unassociated funerary object is one lot of modified stone removed from Gill in Franklin County. The items were accessioned by the Yale Peabody Museum in 1906 and were received through unknown donors and collectors.

The two unassociated funerary objects are one lot of modified stone, and one lot of unmodified stone. The items were removed from the vicinity of Montague, including Turners Falls, in Franklin County. The items were acquired by Horatio Nelson Rust and donated to the Yale Peabody Museum by Othniel Charles (O.C.) Marsh in 1872.

The two unassociated funerary objects are one lot of modified stone, and one lot of unmodified stone removed from Turners Falls in Montague in Franklin County. The items were removed or acquired by Oscar H. Lebourveau and given with other collections to the Geology Department at the Yale Peabody Museum in 1877. The items were transferred to the Anthropology Department in 1929.

The one unassociated funerary object is one lot of modified stone removed from Riverside in Gill in Franklin County. The items were donated to the Yale Peabody Museum in 1884 by Sheridan C. Heighway.

The two unassociated funerary objects are one lot of modified stone, and one lot of modified copper removed from Riverside in Gill, Hampden County. The items were acquired by Othniel Charles (O.C.) Marsh prior to 1899 and brought to the Yale Peabody Museum in 1908.

The one unassociated funerary object is one lot of modified stone from Montague in Franklin County. The items were acquired by Othniel Charles (O.C.) Marsh prior to 1899 and brought to the Yale Peabody Museum in 1908.

The one unassociated funerary object is one lot of modified stone removed from Depot Hill in Holyoke, Hampden County. The item was donated to the Yale Peabody Museum in 1912 by Dr. George Elwood Nichols.

The two unassociated funerary objects are one lot of undecorated ceramic sherds, and one lot of decorated ceramic sherds removed from the Guida Farm site in Hampden County by Edward Brooks. The items were donated to the Yale Peabody Museum by Edwin Kenneth Burnett of the Museum of the American Indian, Heye Foundation, in 1945.

Determinations

The Yale Peabody Museum has determined that:

• The 14 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the Yale Peabody Museum must determine the most appropriate requestor prior to repatriation. Requests for joint repatriation of the cultural items are considered a single request and not competing requests. The Yale Peabody Museum is responsible for sending a copy of this notice to the Indian Tribes identified in this notice and to any other consulting parties.

Authority: Native American Graves Protection and Repatriation Act, 25 U.S.C. 3004 and the implementing regulations, 43 CFR 10.9.

Dated: November 17, 2025.
Melanie O'Brien,
Manager, National NAGPRA Program.

[FR Doc. 2025-22885 Filed 12-15-25; 8:45 am]

BILLING CODE 4312-52-P